ENVIRONMENTAL PROTECTION AGENCY

[EPA-HQ-OPP-2008-0522; FRL-8373-3]

North American Free Trade Agreement Technical Working Group on Pesticides; Proposed Five-Year Strategy, 2008-2013; Notice of Availability

Correction

In notice document E8-16381 beginning on page 42798 in the issue of Wednesday, July 23, 2008, make the following correction:

On page 42798, in the third column, under the DATES heading, in the second line “August 18, 2008” should read “August 22, 2008”.

[FR Doc. Z8-16381 Filed 8-22-08; 8:45 am]

BILLING CODE 1505-01-D